DEPARTMENT OF ENERGY

Notice of Competitive Financial Assistance for the Office of Energy Efficiency and Renewable Energy

AGENCY: U.S. Department of Energy.

ACTION: Notice of competitive financial assistance solicitation for energy efficiency science initiative.

SUMMARY: The Department of Energy (DOE) is announcing a competitive solicitation for applications for cooperative agreements to pursue scientific and engineering research and development (R&D) in enabling technologies. The solicitation will focus on areas that have the potential for cross-cutting applications in the field of energy efficiency across the transportation, industrial, and building sectors. It is estimated that funding of approximately $10.7 million will be available for 10 to 15 awards under this solicitation in fiscal year 2000.

Six priority areas of interest have been identified: (1) Advanced materials; (2) biobased products and bioenergy; (3) combustion processes and systems; (4) sensors and controls; (5) computational sciences; and (6) energy storage and power conversion. The awards will be for a period of one to three years. Proposals will be subject to the objective merit review procedures for the Office of Energy Efficiency and Renewable Energy (EERE).

It is anticipated that the solicitation will encourage applications to be submitted by institutions of higher education and that such institutions will lead teams including participants such as for-profit entities, non-profit organizations, national laboratories, state government agencies, and/or individual researchers located in the United States. Applications that are submitted by institutions of higher education and that reflect a collaborative team approach will be given favorable consideration in the selection process.

Applications by DOE management and operating contractors (M&O) will not be eligible for award. However, applications that include performance of a portion of the project by an M&O contractor will be eligible and encouraged, provided that the proposed use of any such entity is specifically authorized in writing by the DOE Contracting Officer or authorized designee responsible for the M&O based on specified criteria.

This solicitation provides opportunities to leverage funds for important research and development (R&D) designed to advance technologies that promote energy efficiency. Proposed cost-sharing will be given favorable consideration in the selection process.

DATES: Later in February 2000, a draft solicitation document, which will include greater detail about specific program areas of interest, application instructions, due dates and evaluation criteria, will be issued for public comment for a ten-day period. The final solicitation is expected to be issued in March 2000.

ADDRESSES: The formal solicitation document will be disseminated electronically as Solicitation No. DE-PS36-00GO10500 through the Golden Field Office's World Wide Web site at http://www.eren.doe.gov/golden/solicitations.html.

FOR FURTHER INFORMATION CONTACT: Contact the U.S. Department of Energy, Office of Energy Efficiency and Renewable Energy, Golden Field Office, 1617 Cole Blvd., Golden, CO 80401. The Contract Specialist is James Damm, at FAX (303) 275-4788 or e-mail at jim__damm@nrel.gov. All questions or comments concerning this announcement must be in writing and should be directed to the attention of Mr. Damm. The preferred method of submitting questions and/or comments is through e-mail. Only questions and comments submitted to Mr. Damm will be considered. Questions and/or comments requiring coordination with EERE program officials will be directed to the cognizant offices.

SUPPLEMENTARY INFORMATION: The Office of EERE implements DOE's strategic objectives of increasing the efficiency and productivity of energy use, while limiting harmful environmental impacts; reducing the vulnerability of the U.S. economy to disruptions in energy supplies; ensuring the existence of a competitive utility power industry that can deliver adequate and affordable supplies of energy with minimal negative environmental impacts; supporting U.S. energy, environmental, and trade and other economic interests in global markets; and delivering leading-edge technologies.

Proposals will be accepted in the following areas or combination of areas: (1) Advanced materials; (2) biobased products and bioenergy; (3) combustion processes; (4) sensors and controls; (5) computational sciences; and (6) energy storage and power conversion.

Additional information about the programs of the Office of EERE can be obtained at the Office's

Internet site at http://www.eren.doe.gov/ee.html.

Issued in Golden, CO.
Dated: February 9, 2000.
Matthew Barron,
Contracting Officer, Golden Field Office.

[FR Doc. 00-3696 Filed 2-15-00; 8:45 am]

BILLING CODE 6450-01-P